DEPARTMENT OF THE INTERIOR

National Park Service

National Register of Historic Places; Notification of Pending Nominations and Related Actions

Nominations for the following properties being considered for listing or related actions in the National Register were received by the National Park Service before February 11, 2006. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by March 20, 2006.

John W. Roberts,
Acting Chief, National Register/National Historic Landmarks Program.

CALIFORNIA

Sacramento County

Carly, J.C., House, 2761 Montgomery Way, Sacramento, 06000143

Yolo County

Walnut Street School, 175 Walnut St., Woodland, 06000144

DELAWARE

New Castle County

Foord & Massey Furniture Company Building, 701 N. Shipley St., Wilmington, 06000145

LOUISIANA

Iberia Parish

People's National Bank, 119 W. Main St., New Iberia, 06000146

West Feliciana Parish

Macland Plantation House, 7764 Highland Rd., St. Francisville, 06000152

MASSACHUSETTS

Berkshire County

Harrison, Samuel, House, 80 Third St., Pittsfield, 06000147

MICHIGAN

Kalamazoo County

Burdick—South Historic District, 214-250 S. Kalamazoo Mall, 100 W. South, 113-125 E. South, Kalamazoo, 06000148

Oakland County

B and C Grocery Building,

417-19 S. Main St., Royal Oak, 06000149

NEW MEXICO

Bernalillo County

New Mexico Madonna of the Trail, (Route 66 through New Mexico MPS) Jct. of Marble Ave. and 4th St., Albuquerue, 06000151

Cibola County

Bowlin's Old Crater Trading Post, (Route 66 through New Mexico MPS) 7650 Frontage Rd., Bluewater, 06000150

Dona Ana County

Bentley, L.B., General Merchandise, 16125 Old Organ Main St., Organ, 06000155

McKinley County

Cousins Bros. Trading Post, 768 A-D Cousins Rd., Chi Chil Tah, 06000153

Quay County

Cactus Motor Lodge, 1316 E. Tucumcari Blvd., Tucumcari, 06000154

Taos County

Beimer, Bernard J., House, 215 Beimer Ave., Taos, 06000156

NEW YORK

Madison County

Oneida Lake Congregational Church, 2508 NY 31, Oneida Lake, 06000159

Spirit House, NY 26, Georgetown, 06000160

Nassau County

Cock—Cornelius House, 34 Birch Hill Rd., Locust Valley, 06000157

Suffolk County

Congregation Tifereth Israel Synagogue, 519 Fourth St., Greenport, 06000161

Tuthill, Jesse and Ira, House, Main Rd. and Cardinal Dr., Mattituck, 06000158

VIRGINIA

Southampton County

Vaughan, Rebecca, House, 26315 Heritage Ln., Courtland, 06000162

WASHINGTON

Pierce County

MV KALAKALA (ferry), Hulebos Creek Waterway, 1801 Taylor Way, Tacoma, 06000177

Spokane County

Nettleton's Addition Historic District, Area bounded by W. Summit, Mission, N Summit, A St. Bridge, and Chestnut, Spokane, 06000176

Richardson—Jackson House, 1226 N. Summit Blvd., Spokane, 06000178

WEST VIRGINIA

Berkeley County

Evans, John, House, 2298 Winchester Ave., Martinsburg, 06000168

Marlowe Consolidated School, 9580 Williamsport Pike, Marlowe, 06000169

Miller Tavern and Farm, E side Golf Course Rd., Martinsburg, 06000167

Newcomer Mansion, 1735 Douglas Grove Rd., Martinsburg, 06000170

Scrabble Historic District, Scrabble Rd. and Dam No. 4 Rd., Scrabble, 06000171

Snodgrass Tavern (Boundary Increase), Hedgesville Rd., WV 9, W of Hedgesville, Hedgesville, 06000172

Strode—Morrison—Tabler House and Farm, 1270 Jacobs Rd., Hedgesville, 06000173

Jefferson County

Elmwood-on-the-Opequon, 3898 Sulphur Springs Rd., Kearneysville, 06000165

Kanawha County

Downtown Charleston Historic District, Roughly bounded by Washington St. E, Leon Sullivan Way, Knawha Blvd. and Summers St., Charleston, 06000166

Lewis County

May—Kraus Farm, 3052 Crooked Run Rd., Alum Bridge, 06000175

Ohio County

Lang—Hess House, 1625 Wood St., Wheeling, 06000174

Raleigh County

Sophia Historic District, Main St., bet. Polk St. and Riffe St., Sophia, 06000163

Randolph County

Wees Historic District, Generally bounded by Randolph and S. Randolph Aves., Sycamore St., Diamond St. and Boundary and Terrace Aves., Elkins, 06000164

A request for removal has been made for the following resource:

LOUISIANA

St. Landry Parish

MacLand Plantation House 3.4 mi. N of Washington on LA 10 Washington vicinity, 80004322

[FR Doc. E6-2999 Filed 3-2-06; 8:45 am]

BILLING CODE 4312-51-P